DEPARTMENT OF LABOR

Employment and Training Administration

[TA-W-65,817]

BAE Systems Controls, Inc., Irving, TX; Notice of Termination of Investigation

Pursuant to Section 221 of the Trade Act of 1974, as amended, an investigation was initiated on April 20, 2009 in response to a petition filed by a company official on behalf of workers of BAE Systems Controls, Inc., Irving, Texas.

The petitioner requested that the petition be withdrawn. Consequently, the investigation has been terminated.

Signed at Washington, DC, this 15th day of May 2009.
Richard Church,
Certifying Officer, Division of Trade Adjustment Assistance.

[FR Doc. E9-13905 Filed 6-12-09; 8:45 am]

BILLING CODE 4510-FN-P